DEPARTMENT OF COMMERCE

International Trade Administration

[C-533-844]

Certain Lined Paper Products From India: Notice of Initiation and Preliminary Results of Countervailing Duty Changed Circumstances Review

AGENCY: Enforcement and Compliance, International Trade Administration, Department of Commerce.

DATES: Effective: July 3, 2014].

SUMMARY: In response to a request from Navneet Education Limited (Navneet Education), a producer/exporter of certain lined paper products (CLPP) from India, and pursuant to section 751(b)(1) of the Tariff Act of 1930, as amended (the Act), and 19 CFR 351.216, the Department is initiating a changed circumstances review (CCR) of the countervailing duty (CVD) order on CLPP from India with regard to Navneet Education. Based on the information received, we further preliminarily determine that Navneet Education is the successor-in-interest to Navneet Publications (India) Ltd. (Navneet) and should be accorded the same treatment previously given to Navneet with respect to the CVD order on CLPP from India. Interested parties are invited to comment on these preliminary results.

FOR FURTHER INFORMATION CONTACT: John Conniff, AD/CVD Operations, Office III, Enforcement and Compliance, International Trade Administration, U.S. Department of Commerce, 14th Street and Constitution Avenue NW., Washington, DC 20230; telephone: (202) 482-1009.

SUPPLEMENTARY INFORMATION:

Background

On September 28, 2006, the Department published the CLPP CVD Order.¹ In its October 17, 2013, CCR request, Navneet Education requests that: (1) The Department conduct a CCR under section 751(b)(1) of the Act and 19 CFR 351.216 to determine that it is the successor-in-interest to Navneet for purposes of the CVD order; and (2) that the Department issue instructions to Customs and Border Protection (CBP) that reflect this conclusion.² Navneet Education argues that the change necessitating the CCR stems solely from a name change.

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP CVD Order).

² See Navneet Education's March 17, 2014, letter to the Department, Request for Changed Circumstances Review Navneet Publications (India) Ltd. (CCR Request) at 1-2.

On December 23, 2013, the Department issued a deficiency letter ³ to Navneet Education to which it responded on March 18, 2014.⁴ On May 6, 2014, we issued a deficiency letter in which we explained to Navneet Education that because it took nearly three months to respond to our initial deficiency letter, the time span covered by its initial CCR request was no longer timely. Therefore, we instructed Navneet Education to provide information starting from December 31, 2012, through the date that it filed its revised CCR request.⁵ On May 16, 2014, Navneet Education submitted a revised CCR request spanning the time period specified by the Department.⁶

³ See the Department's December 23, 2013, deficiency letter (Initial Deficiency Letter).

⁴ See Navneet Education's March 18, 2014, submission (Supplemental Filing).

⁵ See the Department's May 6, 2014, deficiency letter (Second Deficiency Letter).

⁶ See Navneet Education's May 16, 2014, submission (Second Supplemental Filing).

Scope of the Order

The merchandise covered by the CLPP CVD Order is certain lined paper products, typically school supplies (for purposes of this scope definition, the actual use of or labeling these products as school supplies or non-school supplies is not a defining characteristic) composed of or including paper that incorporates straight horizontal and/or vertical lines on ten or more paper sheets (there shall be no minimum page requirement for looseleaf filler paper). The products are currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁷

⁷ For a complete description of the scope of the CLPP CVD Order, see the memorandum from Christian Marsh, Deputy Assistant Secretary for Antidumping and Countervailing Duty Operations, to Paul Piquado, Assistant Secretary for Enforcement and Compliance, “Decision Memorandum for Preliminary Results of Changed Circumstances Review: Certain Lined Paper Products from India” (Preliminary Decision Memorandum), dated concurrently with these results and hereby adopted by this notice.

Initiation and Issuance of Preliminary Results of Changed Circumstances Review

Pursuant to section 751(b)(1) of the Act, the Department will conduct a CCR upon receipt of a request from an interested party or receipt of information concerning a CVD order which shows changed circumstances sufficient to warrant a review of the order.

We received information indicating that in 2013, Navneet changed its name to Navneet Education for cosmetic reasons and that any change between it and its alleged predecessor is solely in the changing of its name. The Department determines that the information submitted by Navneet Education constitutes sufficient evidence to warrant a CCR of this order.⁸ Therefore, in accordance with section 751(b)(1) of the Act, we are initiating a CCR based upon the information contained in Navneet Education's submission.⁹

⁸ See 19 CFR 351.216(d).

⁹ See CCR Request, Supplemental Filing, and Second Supplemental Filing.

19 CFR 351.221(c)(3)(ii) permits the Department to combine the notice of initiation of a CCR and the notice of preliminary results if the Department concludes that expedited action is warranted. In this instance, because we have on the record the information necessary to make a preliminary finding, we find that expedited action is warranted, and are combining the notice of initiation and the notice of preliminary results.

Methodology

In accordance with section 751(b)(1) of the Act, we are conducting a CCR based upon the information contained in Navneet Education's submissions.¹⁰

¹⁰ See CCR Request, Supplemental Filing, and Second Supplemental Filing.

As a general rule, in a CVD CCR, the Department will make an affirmative CVD successorship finding (i.e., that the respondent company is the same subsidized entity for CVD cash deposit purposes as the predecessor company) where there is no evidence of significant changes in (1) the respondent's operations, (2) ownership and (3) corporate or legal structure during the relevant period (i.e., the “look-back window”) that could have affected the nature and extent of the respondent's subsidy levels.¹¹ Where the Department makes an affirmative CVD successorship finding, the successor's merchandise will be entitled to enter under the predecessor's cash deposit rate.¹²

¹¹ See Certain Pasta From Turkey: Preliminary Results of Countervailing Duty Changed Circumstances Review, 74 FR 47225, 47227 (September 15, 2009).

¹² Id.

For a full description of the methodology underlying our conclusions, see Preliminary Decision Memorandum. The Preliminary Decision Memorandum is a public document and is on file electronically via Enforcement and Compliance's Antidumping and Countervailing Duty Centralized Electronic Service System (IA ACCESS). IA ACCESS is available to registered users at http://iaaccess.trade.gov and to all parties in the Central Records Unit (CRU), room 7046 of the main Department of Commerce building. In addition, a complete version of the Preliminary Decision Memorandum can be accessed directly on the Internet at http://enforcement.trade.gov/frn/index.html. The signed Preliminary Decision Memorandum and the electronic versions of the Preliminary Decision Memorandum are identical in content.

Preliminary Results of the Changed Circumstances Review

Based on the evidence reviewed, we preliminarily determine that Navneet Education is the successor-in-interest to Navneet. Specifically, we find that there is no evidence of significant changes between Navneet and Navneet Education's operations, ownership and corporate or legal structure that could have had an impact on Navneet Education's subsidies levels. Thus, we preliminarily determine that Navneet Education is the successor-in-interest to Navneet for purposes of the CLPP CVD Order.

If the Department upholds these preliminary results in the final results, Navneet Education will retain the CVD cash deposit rate currently assigned to Navneet with respect to the subject merchandise (i.e., the 8.76 percent cash deposit rate currently assigned to Navneet).¹³ However, because cash deposits are only estimates of the amount of CVDs to be assessed, changes in cash deposit rates are not made retroactively.¹⁴ Therefore, no retroactive change will be made to Navneet Education's cash deposit rate, as Navneet Education requested.¹⁵ If these preliminary results are adopted in the final results of this CCR, we will instruct CBP to suspend liquidation of entries of CLPP made by Navneet Education, effective on the publication date of the final results, at the cash deposit rate assigned to Navneet.

¹³ See Certain Lined Paper Products From India: Final Results of Countervailing Duty Administrative Review, 74 FR 6573, 6574 (February 10, 2009).

¹⁴ See Notice of Initiation and Preliminary Results of Antidumping Duty Changed Circumstances Review: Certain Frozen Warmwater Shrimp from India, 77 FR 64953, 64955 (October 24, 2012); see also Certain Hot-Rolled Lead and Bismuth Carbon Steel Products From the United Kingdom: Final Results of Changed-Circumstances Antidumping and Countervailing Duty Administrative Reviews, 64 FR 66880, 66881 (November 30, 1999).

¹⁵ Navneet argued that the determination as successor-in-interest should be made effective as of the date of the name change, i.e., September 30, 2013. See CCR Request at 8.

Public Comment

Interested parties may submit case briefs and/or written comments not later than 30 days after the date of publication of this notice.¹⁶ Rebuttals to written comments may be filed no later than five days after the written comments are due.¹⁷ Parties who submit case or rebuttal briefs are encouraged to submit with each argument: (1) a statement of the issue; (2) a brief summary of the argument; and (3) a table of authorities.¹⁸ All comments are to be filed electronically using IA ACCESS, and must also be served on interested parties.¹⁹ An electronically filed document must be received successfully in its entirety by IA ACCESS by 5:00 p.m. Eastern Standard Time on the day it is due.²⁰

¹⁶ See 19 CFR 351.309(c)(1)(ii).

¹⁷ See 19 CFR 351.309(d).

¹⁸ See 19 CFR 351.309(c)(2).

¹⁹ See 19 CFR 351.303(b) and (f).

²⁰ See 19 CFR 351.303(b).

Interested parties who wish to request a hearing, or to participate if one is requested, must submit a written request to the Assistant Secretary for Enforcement and Compliance, U.S. Department of Commerce, using Enforcement and Compliance's IA ACCESS system within 30 days after the date of publication of this notice.²¹ Requests should contain the party's name, address, and telephone number, the number of participants, and a list of the issues to be discussed. Oral presentations will be limited to issues raised in the briefs. If a request for a hearing is made, we will inform parties of the scheduled date for the hearing which will be held at the U.S. Department of Commerce, 14th Street and Constitution Avenue NW., Washington, DC 20230, at a time and location to be determined.²² Parties should confirm by telephone the date, time, and location of the hearing.

²¹ See 19 CFR 351.310(c).

²² See 19 CFR 351.310.

Consistent with 19 CFR 351.216(e), we will issue the final results of this CCR no later than 270 days after the date on which this review was initiated, or within 45 days if all parties agree to our preliminary finding.

We are issuing and publishing this finding and notice in accordance with sections 751(b)(l) and 777(i)(l) of the Act and 19 CFR 351.216.

Dated: June 27, 2014.
Paul Piquado,
Assistant Secretary for Enforcement and Compliance.

Appendix

I. Summary

II. Background

III. Scope of the Order

IV. Preliminary Results

V. Discussion of Methodology

VI. Recommendation

[FR Doc. 2014-15685 Filed 7-2-14; 8:45 am]

BILLING CODE 3510-DS-P